ENVIRONMENTAL PROTECTION AGENCY

[ER-FRL-9058-3]

Environmental Impact Statements; Notice of Availability

Responsible Agency: Office of Federal Activities, General Information 202-564-5632 or https://www.epa.gov/nepa.

Weekly receipt of Environmental Impact Statements (EIS)

Filed August 30, 2021 10 a.m. EST Through September 3, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210132, Draft, NMFS, AK, Bering Sea and Aleutian Islands (BSAI) Halibut Abundance-based Management (ABM) of Amendment 80 Prohibited Species Catch (PSC) Limit, Comment Period Ends: 10/25/2021, Contact: Joseph Krieger 907-586-7228.

EIS No. 20210133, Final, USDA, MT, Mid-Swan Landscape Restoration and Wildland Urban Interface Project, Review Period Ends: 10/25/2021, Contact: Joseph Krueger 406-758-5243.

EIS No. 20210134, Draft, USACE, SC, Charleston Peninsula Coastal Flood Risk Management Draft Feasibility Report/Environmental Impact Statement, Comment Period Ends: 10/25/2021, Contact: Nancy Parrish 843-329-8017.

EIS No. 20210135, Draft, USFS, MN, Lutsen Mountains Ski Area Expansion Project, Comment Period Ends: 10/25/2021, Contact: Michael Jimenez 218-626-4383.

EIS No. 20210136, Final, USACE, TX, Coastal Texas Protection and Restoration Feasibility Study, Review Period Ends: 10/12/2021, Contact: Jeff Pinsky 409-766-3039.

Dated: September 3, 2021.
Cindy S. Barger,
Director, NEPA Compliance Division, Office of Federal Activities.

[FR Doc. 2021-19526 Filed 9-9-21; 8:45 am]

BILLING CODE 6560-50-P